CORPORATION FOR NATIONAL AND COMMUNITY SERVICE

Sunshine Act Meeting

The National Civilian Community Corps Advisory Board gives notice of the following meeting:

DATE AND TIME: Tuesday, February 14, 2012, 2 p.m.-3:30 p.m.

PLACE: Conference room #8312, 8th floor, Corporation for National and Community Service Headquarters, 1201 New York Avenue NW. Washington, DC 20525

CALL-IN INFORMATION: This meeting is available to the public through the following toll-free call-in number: (888) 455-7057 conference call access code number NCCC. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is (203) 369-1895. The end replay date: March 14, 2012, 11:59 p.m. (CT).

STATUS: Open.

Matters To Be Considered

I. Meeting Convenes

II. Approval of Minutes

III. Director's Report:

IV. Area Reports:

• Projects and Partnerships

• Member Development

• Policy and Operations

V. Public Comment

ACCOMMODATIONS: Anyone who needs an interpreter or other accommodation should notify the Corporation's contact person by 5 p.m. Wednesday, January 27, 2012.

FOR FURTHER INFORMATION CONTACT: Erma Hodge, NCCC, Corporation for National and Community Service, 9th Floor, Room 9802B, 1201 New York Avenue NW., Washington, DC 20525. Phone (202) 606-6696. Fax (202) 606-3459. TTY: (800) 833-3722. Email: ehodge@cns.gov.

Dated: January 11, 2012.
Valerie E. Green,
General Counsel.

[FR Doc. 2012-826 Filed 1-12-12; 4:15 pm]

BILLING CODE 6050-$$-P